DEPARTMENT OF LABOR

Mine Safety and Health Administration

30 CFR Parts 56 and 57

[Docket No. MSHA-2014-0030]

RIN 1219-AB87

Examinations of Working Places in Metal and Nonmetal Mines

AGENCY: Mine Safety and Health Administration, Labor.

ACTION: Announcement of public meetings.

SUMMARY: The Mine Safety and Health Administration (MSHA) is announcing the dates and locations of additional public stakeholder meetings on the Agency's standards for Examinations of Working Places in Metal and Nonmetal Mines.

DATES: The meeting dates and locations are listed in the SUPPLEMENTARY INFORMATION section of this document.

ADDRESSES: Federal Register Publications: Access rulemaking documents electronically at http://www.msha.gov/regsinfo.htm or http://www.regulations.gov [Docket Number: MSHA-2014-0030].

FOR FURTHER INFORMATION CONTACT: Sheila A. McConnell, Director, Office of Standards, Regulations, and Variances, MSHA, at mcconnell.sheila.a@dol.gov (email), 202-693-9440 (voice), or 202-693-9441 (fax). These are not toll-free numbers.

SUPPLEMENTARY INFORMATION:

I. Stakeholder Meetings

On April 9, 2018, MSHA published a document (83 FR 15055) announcing six stakeholder meetings. To expand stakeholder outreach, MSHA has scheduled another meeting in Seattle, Washington and two video teleconference (VTC) meetings to be broadcast to seven local offices from MSHA headquarters in Arlington, VA. For the convenience of the public, the complete list of stakeholder meetings is included in this document.

Examinations of Working Places in Metal and Nonmetal Mines Stakeholder Meetings
[Dates, times, and locations]
Date/time | Location | Contact number
May 1, 2018, 9 a.m. Central time | DoubleTree by Hilton Hotel, Bloomington, 10 Brickyard Drive, Bloomington, Illinois 61701 | 309-664-6446.
May 3, 2018, 9 a.m. Pacific time | Renaissance Seattle Hotel, 515 Madison Street, Seattle, Washington 98104 | 206-583-0300.
May 10, 2018, 11 a.m. Eastern time and work through lunch | VTC | See Table Below.
May 15, 2018, 9 a.m. Central time | Sheraton Birmingham Hotel, 2101 Richard Arrington Jr. Blvd. N, Birmingham, Alabama 35203 | 205-324-5000.
May 17, 2018, 9 a.m. Eastern time | Hilton Garden Inn Pittsburgh Downtown, 250 Forbes Avenue, Pittsburgh, Pennsylvania 15222 | 412-281-5557.
May 22, 2018, 9 a.m. Pacific time | Renaissance Reno Downtown Hotel, One South Lake Street, Reno, Nevada 89501 | 775-682-3900.
May 24, 2018, 9 a.m. Central time | DoubleTree by Hilton, Hotel Dallas—Market Center, 2015 Market Center Blvd, Dallas, Texas 75207 | 214-741-7481.
May 31, 2018, 9 a.m. Mountain time | Hilton Garden Inn Denver, Tech Center, 7675 East Union Ave., Denver Colorado 80237 | 303-770-4200.
June 6, 2018, 11 a.m. Eastern time and work through lunch | VTC | See Table Below.

VTC Meetings—May 10 and June 6, 2018

Interested participants may attend these meetings in-person at MSHA's Headquarters in Arlington, VA or by participating by VTC at one of our seven local offices around the country (See table below).

(1) To participate in Arlington, VA:

• Send an email to zzMSHAcomments@dol.gov.

• Address—201 12th Street South, 4th Floor Conference Space in Room 4C304, in Arlington, VA 22202.

• When you enter the building, take the elevators to your right up to the 4th floor East reception area to check in. You will then be escorted to room 4C304.

• Nearest metro stations: Pentagon, Pentagon City, Crystal City. Parking is available on the street and in the building.

(2) To participate by VTC at one of the seven local offices, send an email to zzMSHAcomments@dol.gov.

VTC Location | Address/contact number
Arlington, VA (Host Location) | MSHA Headquarters, 201 12th Street South, Arlington, VA 22202, Room 4C304, 202-693-9450.
Beckley, WV | National Mine Health and Safety Academy, 1301 Airport Road, Beckley, WV 25813, Auditorium, 304-256-3100.
Birmingham, AL | MSHA District Office 11, 1030 London Drive, Birmingham, AL 35211, Suite 400 (next to Canon Office Building), 205-290-7294.
Denver, CO | MSHA District Office 9, Denver Federal Center, 6th & Kipling, 2nd Street, Bldg. 25, Denver, CO 80225, Enter through Gate 2-Visitors, 303-231-5465.
Mesa, AZ | Mesa Field Office, 63 East Main Street, Suite 402, Mesa, AZ 85201, 480-649-5452.
Duluth, MN | MSHA North Central District Office, Federal Building, U.S. Courthouse, 515 W. 1st Street, Duluth, MN 55802, Room 327, 218-720-5448.
Warrendale, PA | MSHA Northeastern District Office, 178 Thorn Hill Road, Suite 100, Warrendale, PA 15086, 724-772-2334.
Vacaville, CA | MSHA Western District Office, 991 Nut Tree Road, Vacaville, CA 95687, Will be escorted to Conference Room, 707-447-7864.

II. Background

On January 23, 2017, MSHA published a final rule (January 2017 rule) amending the standards then in effect on examinations of working places in metal and nonmetal mines, 30 CFR 56.18002 and 57.18002 (82 FR 7680). The January 2017 final rule, which was scheduled to become effective on May 23, 2017, was stayed until June 2, 2018 (82 FR 46411). On September 12, 2017, MSHA published a proposed rule that would make limited changes to the January 2017 final rule (82 FR 42765). The final rule, published April 9, 2018 (83 FR 15055), is effective on June 2, 2018.

David G. Zatezalo,
Assistant Secretary of Labor for Mine Safety and Health.

[FR Doc. 2018-08240 Filed 4-18-18; 8:45 am]

BILLING CODE 4520-43-P